DEPARTMENT OF TRANSPORTATION

Federal Aviation Administration

14 CFR Part 39

[Docket No. 2003-NE-44-AD]

RIN 2120-AA64

Airworthiness Directives; Hartzell Propeller Inc. Models HC-B5MP-3C/M10876K Propellers

AGENCY: Federal Aviation Administration (FAA), DOT.

ACTION: Notice of proposed rulemaking (NPRM).

SUMMARY: The FAA proposes to supersede an existing airworthiness directive (AD) for Hartzell Propeller Inc. Model HC-B5MP-3C/M10876K propellers, installed on Short Brothers Model SD3-60 airplanes. That AD currently requires initial and repetitive removal, disassembly, inspection, and rework if necessary of Hartzell Propeller Inc. Model HC-B5MP-3C/M10876K propellers until blades are replaced with new design blades, no later than March 31, 1988. This proposed AD would require installation of new design blades before further flight, on Hartzell Propeller Inc. Models HC-B5MP-3C/M10876K propellers. This proposed AD is prompted by a review of all currently effective ADs. That review determined that AD 87-16-02 was not published in the Federal Register to make it effective to all operators, as opposed to just the operators who received actual notice of the original AD. We are proposing this AD to prevent propeller blade separation near the hub, which could result in engine separation from the airplane.

DATES: We must receive any comments on this proposed AD by December 15, 2003.

ADDRESSES: Use one of the following addresses to submit comments on this proposed AD:

• By mail: Federal Aviation Administration (FAA), New England Region, Office of the Regional Counsel, Attention: Rules Docket No. 2003-NE-44-AD, 12 New England Executive Park, Burlington, MA 01803-5299.

• By fax: (781) 238-7055.

• By e-mail: 9-ane-adcomment@faa.gov.

You may examine the AD docket, by appointment, at the FAA, New England Region, Office of the Regional Counsel, 12 New England Executive Park, Burlington, MA.

FOR FURTHER INFORMATION CONTACT: Melissa Bradley, Aerospace Engineer, Chicago Aircraft Certification Office, FAA, Small Airplane Directorate, 2300 East Devon Avenue, Des Plaines, IL 60018; telephone: (847) 294-8110; fax: (847) 294-7834.

SUPPLEMENTARY INFORMATION:

Comments Invited

We invite you to submit any written relevant data, views, or arguments regarding this proposal. Send your comments to an address listed under ADDRESSES. Include “AD Docket No. 2003-NE-44-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

On July 31, 1987, the FAA issued Priority Letter AD 87-16-02. That AD requires initial and repetitive removal, disassembly, inspection, and, if necessary, rework of Hartzell Propeller Inc. Models HC-B5MP-3C/M10876K propellers until the existing blades are replaced with new design blades. That AD requires replacement of the existing blades with new design blades by March 31, 1988. That action was prompted by reports of fatigue cracks and corrosion in propeller blades. That condition, if not corrected, could result in propeller blade separation near the hub, which could result in separation of the engine from the airplane.

Actions Since AD 87-16-02 Was Issued

Since that AD was issued, we have reviewed all currently effective ADs. We found that Priority Letter AD 87-16-02 was not published in the Federal Register to make it effective to all operators, as opposed to just the operators who received the original AD. We anticipate that all affected propellers have the new design blades installed. However, we are issuing this proposed rule to ensure that all affected propellers are updated with new design propeller blades.

FAA's Determination and Requirements of the Proposed AD

We have evaluated all pertinent information and identified an unsafe condition that is likely to exist or develop on other products of this same type design. Therefore, we are proposing this AD, which would require installation of new design blades before further flight, on Hartzell Propeller Inc. Models HC-B5MP-3C/M10876K propellers.

Changes to 14 CFR Part 39—Effect on the Proposed AD

On July 10, 2002, we published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

We anticipate that all affected propellers have complied with Priority Letter AD 87-16-02 and have the new design blades installed. Therefore, we estimate the total cost of the proposed AD to U.S. operators to be $0. However, if replacement of the blades is necessary, we estimate that it would take about 25 work hours per propeller to perform the proposed actions, and that the average labor rate is $65 per work hour. Required parts would cost about $4,300 per propeller blade. Based on these figures, we estimate the total cost of the proposed AD per propeller would be $23,125.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-44-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding a new airworthiness directive, to read as follows:

Hartzell Propeller Inc.: Docket No. 2003-NE-44-AD. Supersedes Priority Letter AD 87-16-02.

Comments Due Date

(a) The Federal Aviation Administration (FAA) must receive comments on this airworthiness directive (AD) action by December 15, 2003.

Affected ADs

(b) This AD supersedes Priority Letter AD 87-16-02.

Applicability

(c) This AD applies to Hartzell Propeller Inc. Model HC-B5MP-3C/M10876K propellers. These propellers are installed on, but not limited to, Short Brothers Model SD3-60 airplanes.

Unsafe Condition

(d) This AD is prompted a review of all currently effective ADs. That review determined that AD 87-16-02 was not published in the Federal Register to make it effective to all operators, as opposed to just the operators who received actual notice of the original AD. We are issuing this AD to prevent propeller blade separation near the hub, which could result in engine separation from the airplane.

Compliance

(e) You are responsible for having the actions required by this AD performed within the compliance times specified unless the actions have already been done.

Required Actions

(f) Before further flight, replace propeller blades Model M10876K with blades Model M10876ASK.

(g) After the effective date of this AD, do not install propeller blades Model M10876K on any airplane.

Alternative Methods of Compliance

(h) The Manager, Chicago Aircraft Certification Office, has the authority to approve alternative methods of compliance for this AD if requested using the procedures found in 14 CFR 39.19.

Material Incorporated by Reference

(i) None.

Related Information

(j) None.

Issued in Burlington, Massachusetts, on October 8, 2003.
Francis A. Favara,
Acting Manager, Engine and Propeller Directorate, Aircraft Certification Service.

[FR Doc. 03-26118 Filed 10-15-03; 8:45 am]

BILLING CODE 4910-13-P